DEPARTMENT OF COMMERCE

National Oceanic and Atmospheric Administration

RIN 0648-XF222

Fisheries of the Northeastern United States; Northeast Multispecies Fishery; Notice of Intent To Prepare an Environmental Impact Statement; Scoping Process; Request for Comments

AGENCY: National Marine Fisheries Service (NMFS), National Oceanic and Atmospheric Administration (NOAA), Commerce.

ACTION: Notice; intent to prepare an environmental impact statement and initiate scoping process; request for comments.

SUMMARY: The New England Fishery Management Council (Council) announces its intention to prepare, in cooperation with NFMS, an environmental impact statement (EIS) in accordance with the National Environmental Policy Act. An environmental impact statement may be necessary to provide analytic support for Amendment 23 to the Northeast Multispecies Fishery Management Plan (FMP). Amendment 23 would revise the monitoring and reporting system for the multispecies (groundfish) fishery. The purpose of this notice is to announce a public process for determining the scope of issues to be addressed, and to alert the interested public of the scoping process, the potential development of a draft environmental impact statement, and the opportunity for participation in that process.

DATES: Written and electronic scoping comments must be received on or before April 3, 2017.

ADDRESSES: Written scoping comments on Amendment 23 may be sent by any of the following methods:

• Email to the following address: comments@nefmc.org;

• Mail to Thomas A. Nies, Executive Director, New England Fishery Management Council, 50 Water Street, Mill 2, Newburyport, MA 01950; or Fax to (978) 465-3116.

The scoping document is accessible electronically online at www.nefmc.org/library/amendment-23.

Requests for copies of the Amendment 23 scoping document and other information should be directed to Thomas A. Nies, Executive Director, New England Fishery Management Council, 50 Water Street, Mill 2, Newburyport, MA 01950, telephone, (978) 465-0492.

FOR FURTHER INFORMATION: Thomas A. Nies, Executive Director, New England Fishery Management Council, (978) 465-0492.

SUPPLEMENTARY INFORMATION:

Background

The Northeast multispecies fishery targets 13 species comprising 20 stocks along the east coast from Maine to Cape Hatteras, NC, although most fishing activity takes place between Maine and New Jersey. Management measures were first adopted in 1977, but there have been several major revisions to the management program over the following decades.

The most recent major change occurred in 2010, when most of the fishery shifted to a system that controls total catches through explicit limits on catches by organized cooperative groups of fishermen, referred to as sectors. Each sector comprises a group of fishing permits, each with its own landings history that contributes to the allocation for all of the groundfish stocks. The sum of the allocation histories from all of the permits in the sector represents the sector's annual quota. A sector is not subject to effort controls such as trip limits, and may choose how to manage its collective quota among its members. However, in exchange for this increased business flexibility, sectors are responsible for increased monitoring requirements to comply with catch limits. About 95 percent of the catch is taken by vessels in sectors, while the remainder is harvested by vessels in the common pool. In contrast to sectors, common pool vessels operate independently and are subject to effort controls that include trip limits, limits on days fishing, and closed areas.

Successful management of the Northeast multispecies fishery depends on accurate and timely reports of catch. The term “catch” refers to fish that are landed, as well as those that may not be landed but are discarded at sea for any reason. Catch data is used to ensure compliance with catch limits and are also a key component of scientific assessments of the status of the stocks. These assessments are the basis for determining how much fish can be sustainably caught in future years. Catch is a key element of data commonly referred to as “fishery dependent data”—that is, data collected as a result of fishing operations. At present, there are three primary sources of catch data: (1) self-reported data from fishing vessels and fish dealers; (2) data collected by third-party at-sea observers; and (3) vessel position data.

The self-reported data from fishing vessels and dealers is recorded on Vessel Trip Reports (VTRs) and dealer reports. Fishermen use VTRs to report information on trip-level fishing activity. In these reports, vessel operators submit information on trip start and end times, species landed, species discarded, locations of fishing activity, gear used, disposition of species landed, and similar activity. Fishermen may complete VTRs on paper or using electronic, computer-based programs. Fish are sold to a licensed dealer who submits information via dealer reports that detail the species and amount purchased, sale prices, selling vessel, and market category, and which are filed electronically.

While VTRs and dealer reports are generally used to determine landing amounts, estimates of fish discarded at sea are provided by at-sea observers. There are currently two types of at-sea observers employed in this fishery: Northeast Fishery Observer Program (NEFOP) observers, and at-sea monitors. Although both programs collect similar information (trip activity, species landed, discarded, gear used, etc.), NEFOP observers are funded by the Federal government and implement Federal programs (Standardized Bycatch Reporting Methodology (SBRM), Marine Mammal Protection Act, Endangered Species Act) across fisheries. At-sea monitors (ASM), specific to sector monitoring, are partly funded by fishermen and will be fully funded by fishermen in 2017.

At-sea observers are not present on all trips. Coverage levels for both programs are set annually by the National Marine Fisheries Service. NEFOP coverage levels are determined using the Standardized Bycatch Reporting Methodology (see www.nefsc.noaa.gov/femad/fsb/SBRM/). ASM levels are determined consistent with procedures established by the FMP. This action will not modify the SBRM, but could modify how coverage levels are determined for the at-sea monitoring program. They could also modify or remove the at-sea monitoring program as part of a holistic monitoring and reporting program for the groundfish fishery.

Framework Adjustment 55 (FW 55) clarified that the primary goal of the groundfish sector at-sea monitoring program is to verify area fished, catch, and discards by species, by gear type, and that this primary goal should be met in the most cost-effective manner practicable. All other goals and objectives of groundfish monitoring programs are considered equally-weighted, secondary goals. These goals include to (1) improve the documentation of catch, (2) reduce cost of monitoring, (3) incentivize reducing discards, (4) provide additional data streams for stock assessments, (5) enhance safety of monitoring program, and (6) perform periodic review of monitoring program effectiveness. Specific objectives are described in detail in FW 55. The Council may change the goals and/or objectives of the at-sea monitoring program in this action.

Lastly, vessel position data is provided through a Vessel Monitoring System. This data stream provides vessel positions about once each hour using a satellite-based tracking system and can be used to report fishing activity (such as changing a trip type) while at sea and to enforce compliance with time and area closures.

The Council will consider changes to the monitoring and reporting system to ensure it is providing accurate catch information necessary to manage the fishery efficiently. This could include a wide range of alternatives to tracking sector/vessel specific discards, such as setting total allowable landings and monitoring fishery-wide discards through the observer program. In recent years, most Council discussions have focused on at-sea observer coverage because it provides the highest quality data, but it is expensive, and given the current low quotas in the fishery, the high cost of at-sea monitoring is difficult for many fishermen to afford. There are also questions about the accurate representation of the information, since there is evidence that fishing behavior may be different on observed and unobserved trips. For these reasons, the Council may explore alternatives to at-sea observers, such as using cameras to monitor fishing activity, which is usually referred to as Electronic Monitoring, or EM. The Council also may consider changes to the way landings information is provided by both dealers and vessel operators and how it is assigned to stock areas. When developing this amendment, the Council will take into account other regional projects to improve catch monitoring, such as the Fishery Dependent Data Visioning project that NMFS is pursuing. In summary, the Council may consider changes to any part of the system used to collect and report commercial catch information in the Northeast multispecies fishery.

At its September 2016 meeting, the Council identified that the purpose of this amendment will be to adjust the groundfish monitoring program to improve reliability and accountability. The Council's Groundfish Oversight Committee and the Council will identify the goal and objectives of the amendment following the scoping period and will then develop alternatives to achieve the goal and objectives. Following input from the Committee and the public, the Council will select a range of alternatives to improve the monitoring and reporting system.

Public Comment

All persons affected by or otherwise interested in Northeast multispecies management are invited to participate in commenting on the scope and significance of issues to be analyzed by submitting written comments (see ADDRESSES) or by attending one of the six scoping meetings, including one webinar, for this amendment. Scoping consists of identifying the range of actions, alternatives, and possible impacts to be considered. At this time, the Council believes that it may consider changing any aspect of the existing groundfish monitoring and reporting system. After the scoping process is completed, the Council will begin development of Amendment 23 and will prepare an EIS to analyze the impacts of the range of alternatives for changing the monitoring and reporting system. The Council will hold public hearings to receive comments on the draft amendment and on the analysis of its impacts presented in the Draft EIS.

The Council will take and discuss scoping comments on this amendment at the following public meetings:

Date and time | Location
Rockland, ME, Friday, March 3, 2017, 9:00 a.m.-11:00 a.m | Samoset Resort, 220 Warrenton Street, Rockport, ME 04856.
Via Webinar, Tuesday, March 14, 2017, 6:00 p.m.-8:00 p.m | Webinar Hearing, Register to participate: https://attendee.gotowebinar.com/register/4567763108442151939 Call in info: Toll: +1 (415) 930-5321 Access Code: 702-360-151.
Portsmouth, NH, Tuesday, March 21, 2017, 2:00 p.m.-4:00 p.m | Portsmouth Library, 175 Parrott Avenue, Portsmouth, NH 03801.
Gloucester, MA, Tuesday, March 21, 2017, 6:00 p.m.-8:00 p.m | NOAA Greater Atlantic Regional Fisheries Office, 55 Great Republic Drive, Gloucester, MA 01930.
Plymouth, MA, Wednesday, March 22, 2017, 6:00 p.m.-8:00 p.m | Hilton Garden Inn, 4 Home Depot Drive, Plymouth, MA 02360.
Groton, CT, Thursday, March 23, 2017, 6:00 p.m.-8:00 p.m | Hilton Garden Inn, 224 Gold Star Highway, Groton, CT. 06340.

Special Accommodations

The meetings are accessible to people with physical disabilities. Requests for sign language interpretation or other auxiliary aids should be directed to Thomas A. Nies (see ADDRESSES) at least five days prior to this meeting date.

Authority: 16 U.S.C. 1801 et seq.

Dated: February 14, 2017.
Karen H. Abrams,
Acting Deputy Director, Office of Sustainable Fisheries, National Marine Fisheries Service.

[FR Doc. 2017-03236 Filed 2-16-17; 8:45 am]

BILLING CODE 3510-22-P